DEPARTMENT OF TRANSPORTATION

Federal Aviation Administration

14 CFR Part 39

[Docket No. 2000-NM-154-AD; Amendment 39-12045; AD 2000-25-10]

RIN 2120-AA64

Airworthiness Directives; Airbus Model A300 B2 and B4 Series Airplanes, and Model A300 B4-600, A300 B4-600R, and A300 F4-600R (A300-600) Series Airplanes

AGENCY: Federal Aviation Administration, DOT.

ACTION: Final rule.

SUMMARY: This amendment adopts a new airworthiness directive (AD), applicable to all Airbus Model A300 B2 and B4 series airplanes, and Model A300-600 series airplanes, that requires verifying the correct location of the labels of the hydraulic pipes supplying the strut unlocking actuator of the left-hand main landing gear (MLG), and of the pipes of the left- and right-hand cross brace; reidentifying the pipes; and replacing any incorrectly located label with a new label. The actions specified by this AD are intended to prevent cross connection of the hydraulic hoses or pipes that supply the main strut unlocking actuator, and collapse of the MLG under lateral taxiing loads. This action is intended to address the identified unsafe condition.

DATES: Effective January 25, 2001.

The incorporation by reference of certain publications listed in the regulations is approved by the Director of the Federal Register as of January 25, 2001.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) to include an airworthiness directive (AD) that is applicable to all Airbus Model A300 and A300-600 series airplanes was published in the Federal Register on September 8, 2000 (65 FR 54445). That action proposed to require verifying the correct location of the labels of the hydraulic pipes supplying the strut unlocking actuator of the left-hand main landing gear (MLG), and of the pipes of the left- and right-hand cross brace; reidentifying the pipes; and replacing any incorrectly located label with a new label.

Clarification of Model Designation

Since the issuance of the proposed AD, the FAA has changed the manner in which it identifies the airplane models referred to as “Airbus Model A300 and A300-600 series airplanes” to reflect the model designation specified on the type certificate data sheet. This final rule has been revised to show the appropriate model designations for those airplanes.

Comments

Interested persons have been afforded an opportunity to participate in the making of this amendment. No comments were submitted in response to the proposal or the FAA's determination of the cost to the public.

Conclusion

After careful review of the available data, the FAA has determined that air safety and the public interest require the adoption of the rule with the change described previously. The FAA has determined that this change will neither increase the economic burden on any operator nor increase the scope of the AD.

Cost Impact

The FAA estimates that 87 Model A300 and A300-600 series airplanes of U.S. registry will be affected by this AD, that it will take approximately 1 work hour per airplane to accomplish the required actions, and that the average labor rate is $60 per work hour. Required parts will be provided by the vendor at no cost to operators. Based on these figures, the cost impact of the AD on U.S. operators is estimated to be $5,220, or $60 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-25-10 Airbus Industrie: Amendment 39-12045. Docket 2000-NM-154-AD.

Applicability: All Model A300 B2 and B4 series airplanes, and Model A300 B4-600, A300 B4-600R, and A300 F4-600R (A300-600) series airplanes; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent cross connection of the hydraulic hoses or pipes that supply the main strut unlocking actuator, which could lead to consequent collapse of the main landing gear (MLG) under lateral taxiing loads, accomplish the following:

Corrective Actions

(a) Within 1,000 flight hours or 3 months after the effective date of this AD, whichever occurs first: Verify the correct location of the labels of the hydraulic pipes supplying the strut unlocking actuator of the left-hand MLG, and of the pipes of the left- and right-hand cross brace, and reidentify the pipes, in accordance with Airbus Service Bulletin A300-32A0437 (for Model A300 series airplanes) or A300-32A6080 (for Model A300-600 series airplanes), both dated April 5, 2000, as applicable. If any label is located incorrectly, prior to further flight, replace the label with a new label in accordance with the applicable service bulletin.

Note 2: The service bulletins reference Airbus Service Bulletins A300-57A0234 and A300-57A6087, as well as Messier-Dowty International Service Bulletin No. 470-32-792, as additional sources of service information for accomplishment of the specified actions.

Alternative Methods of Compliance

(b) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(c) Special flight permits may be issued in accordance with sections 21.197 and 21.199 of the Federal Aviation Regulations (14 CFR 21.197 and 21.199) to operate the airplane to a location where the requirements of this AD can be accomplished.

Incorporation by Reference

(d) The actions shall be done in accordance with Airbus Service Bulletin A300-32A0437, dated April 5, 2000; or Airbus Service Bulletin A300-32A6080, dated April 5, 2000; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directive 2000-204-309(B), dated May 17, 2000.

Effective Date

(e) This amendment becomes effective on January 25, 2001.

Issued in Renton, Washington, on December 11, 2000.
Donald L. Riggin,
Acting Manager, Transport Airplane Directorate, Aircraft Certification Service.

[FR Doc. 00-31989 Filed 12-20-00; 8:45 am]

BILLING CODE 4910-13-P